NATIONAL SCIENCE FOUNDATION

Proposal Review Panel in Materials Research; Notice of Meeting

In accordance with the Federal Advisory Committee Act (Pub. L. 92-463 as amended), the National Science Foundation announces the following meeting:

Name: Proposal Review Panel in Materials Reserach (1203).

Dates and Times: March 29, 2004; 1 p.m.-6 p.m.

March 30, 2004; 8:30 a.m.-9 p.m.

March 31, 2004; 8:30 a.m.-1:30 p.m.

Place: Synchrotron Radiation Center (SRC), PSL Conference Room, University of Wisconsin, Stoughton, WI 53589.

Type of Meeting: Partially-Open.

Contact Person: Dr. Hugh Van Horn, Director, National Facilities, Division of Materials Research, Room 1065, National Science Foundation, 4201 Wilson Boulevard, Arlington, VA 22230, Telephone (703) 292-4920, E-mail: hvanhorn@nsf.gov.

Purpose of Meeting: To provide advice and recommendations concerning progress of the Synchrotron Radiation Center (SRC) of the University of Wisconsin.

Agenda

Monday, March 29

1 p.m.-2 p.m. Closed—Executive Session

2 p.m.-5:45 p.m. Open—Tour of SRC, with user presentations

Welcome

Introduction to site review

Discussion

Tuesday, March 30

8:30 a.m.-12:10 p.m. Open—User Science Programs

12:10 p.m.-1 p.m. Closed—Executive Session

1 p.m.-4:15 p.m. Open—Education & outreach

CNTech

Beamlines & instrumentation

Machine physics & operations

Plans for the future

4:15 p.m.-9 p.m. Closed—Executive Session

Wednesday, March 31

8:30 a.m.-1:30 p.m. Closed—Meetings with Institutional Representatives Review and prepare site visit report

Reason for Closing: The work being reviewed may include information of a proprietary or confidential nature, including technical information, financial data, such as salaries and personal information concerning individuals associated with the proposal. These matters are exempt under 5 U.S.C. 552b(c), (4) and (6) of the Government in the Sunshine Act.

Dated: March 3, 2004.
Susanne E. Bolton,
Committee Management Officer.

[FR Doc. 04-5214 Filed 3-8-04; 8:45 am]

BILLING CODE 7555-01-M